DEPARTMENT OF HEALTH AND HUMAN SERVICES

Centers for Disease Control and Prevention

National Partnerships for Human Immunodeficiency Virus (HIV) Prevention With a Focus on Business and Labor, Youth-at-High Risk, and Migrant Workers

AGENCY: Centers for Disease Control and Prevention (CDC), Department of Health and Human Services (HHS).

ACTION: Notice and request for comments.

SUMMARY: The Centers for Disease Control and Prevention (CDC) announces the availability of fiscal year (FY) 2001 funds. CDC will provide approximately $2.2 million dollars to support a technical assistance and leadership program for National Partnerships for Human Immunodeficiency Virus (HIV) Prevention. This program addresses the “Healthy People 2010” focus areas of HIV Prevention, Educational and Community-Based Programs, and Sexually Transmitted Diseases.

The purpose of this announcement is to request comments on this proposed program. After consideration of comments submitted, CDC will publish a program announcement to solicit applications. A more complete description of the program goals, eligible applicants, availability of funds, program requirements, and evaluation criteria follow.

DATES: The public is invited to submit comments by December 11, 2000.

ADDRESS: Submit your comments to and obtain additional information from:

Technical Information and Communications Branch, National Center for HIV, STD, and TB Prevention, Centers for Disease Control and Prevention (CDC), 1600 Clifton Road, NE Mail Stop E49, Atlanta, GA 30333, Fax (404) 639-2007, E-mail: HIVMAIL@CDC.GOV, Telephone (404) 639-2072

SUPPLEMENTARY INFORMATION:

Purpose

The purpose of the program is to develop local, regional, state, and national leadership and support for HIV prevention programs and policies. It is also to provide technical assistance and service delivery in support of capacity building and skills development for community-based organizations, State and local health departments, and other organizations conducting HIV prevention activities at the local, regional, state, and national levels. This announcement is intended to help address gaps in leadership and technical assistance in the development and delivery of HIV prevention services.

For the purpose of this announcement, the following definitions apply:

Leadership activities are defined as the development of communication and mobilization strategies including network development, partnership formation and coalition building, to raise and maintain community as well as national awareness of HIV prevention needs and programs in specified populations. Leadership activities may also include developing and implementing strategies for needs assessments, policy analysis and service integration in collaboration with the private sector, federal partners, health departments, community-based organizations and community planning groups.

Technical Assistance activities are defined as the provision of information and skills and consultation and training for individuals and organizations to improve the delivery and effectiveness of HIV prevention interventions. Service delivery activities may also be included under the technical assistance activity. Technical Assistance funds available under this announcement must support assistance that improves the capacity of recipient agencies to design, develop, implement, and/or evaluate effective HIV prevention interventions for one or more of the three populations described below.

Eligible Applicants

To be eligible for funding under this announcement, applicants must be (1) a tax-exempt, non-profit national business or labor related, youth related, or migrant worker related organization, whose net earnings in no part accrue to the benefit of any private shareholder or person; or (2) an academic institution working in collaboration with such organizations; or (3) a federally recognized Indian tribal government, a non-federally recognized tribe or other organization that qualifies under the Indian Civil Rights Act, State Charter Tribes, Urban Indian Health Programs, Indian Health Boards, and/or Inter-Tribal Councils. Proof of tax-exempt status must be provided with the application. CDC will not accept an application without proof of tax-exempt status. Tax-exempt status is determined by the Internal Revenue Service (IRS) Code, Section 501(c). Tax-exempt status may be proved by either providing a copy of the pages from the IRS' most recent list of 501(c) tax-exempt organizations or a copy of the current IRS Determination Letter.

Note: Public Law 104-65 states that an organization described in section 501(c)(4) of the Internal Revenue Code of 1986 that engages in lobbying activities is not eligible to receive Federal funds constituting an award, grant, cooperative agreement, contract, loan, or any other form.

Below Is Additional Eligibility Criteria for Each Category

Category I—Business- or Labor-Related Organization Programs

A. A business- or labor-related organization is a non-profit, professional or voluntary organization, that (1) has businesses, business leaders, or labor leaders as a focus or constituency; or (2) is a labor union; or (3) is a trade association. In addition, the organization (4) has a formal or informal network, chapters, affiliates, constituent organizations, or offices in at least two U.S. States or territories; and (5) has access to national or regional corporate, business, union, or labor leaders and managers (e.g., human resource managers). For example, a labor union with chapters in at least two States would meet the definition of a national business- or labor-related organization, whereas an individual State chapter of a national labor union would not.

B. Has a documented two-year record of providing technical assistance or leadership activities focusing on HIV prevention with business and labor organizations and their employees or members.

Category II—Youth-Related Organization Programs

A. A youth-related organization is a non-profit organization that has youth, and/or service providers who work with youth, as a focus or constituency. The organization must have a formal or informal network, chapters, affiliates, constituent organizations, or offices in at least two U.S. States or territories. For example, an agency with a linked network of youth-serving providers with members residing in at least two States or Territories would meet the definition of a youth-related organization, whereas an individual chapter of a national organization would not.

B. Has a documented two-year record of providing technical assistance, prevention services and/or leadership activities focusing on HIV prevention for Gay, Lesbian, Bisexual, Transgendered and Questioning (GLBTQ) youth, homeless/run-away or street youth, and/or young women of color.

C. Has a young person, age 24 or younger from the target population, on the Board that oversees programmatic activities, or has an Advisory Committee to the Board that is made up of young people age 24 or younger from the target population.

Category III—Migrant Worker-Related Programs

A. A migrant worker-related organization is a non-profit organization that has migrant workers and/or the service providers who work with migrant workers, as a focus or constituency. The organization must have a formal or informal network, chapters, affiliates, constituent organizations, or offices in at least two U.S. States or territories. For example, an agency with a linked network of migrant worker-serving providers with members residing in at least two States or Territories would meet the definition of a migrant farm worker-related organization, whereas an individual chapter of a national organization would not.

B. Has a documented two-year record of providing culturally tailored technical assistance or leadership activities focusing on HIV prevention for migrant workers.

Availability of Funds

Approximately $2.2 million is available in FY 2001 to fund approximately nine awards. It is expected that the average award will be $225,000, ranging from $200,000 to $300,000. It is expected that the awards will begin on or about April 1, 2001, and will be made for a 12-month budget period within a project period of up to three years. Funding estimates may change.

Funding Preferences

Preference for funding in all categories will be given to:

1. Ensuring that leadership development and/or technical assistance is available to the designated target populations as a primary focus; and

2. Addresses gaps in current national/regional or local technical assistance services (gaps may be defined by geography; target population, race/ethnicity, risk behavior; or intervention type).

Additional Funding Preferences by Category

Preference for funding will be given to ensuring the following:

Category I—Business and Labor

That both business and labor organizations are funded in at least one of the two designated activities.

Category II—Youth

That recipients, under the leadership activity, address a variety of strategies and/or programs to raise awareness and stimulate HIV prevention intervention development in youth serving organizations that have, as a primary focus, the designated at-risk populations.

That recipients, under the technical assistance activity, use a variety of intervention types (e.g. small group interventions, counseling and testing, prevention case management) and/or other proven interventions identified in the CDC Compendium of Effective Programs, titled, “Compendium of HIV Prevention Interventions with Evidence of Effectiveness” November 1999, CDC Prevention Research Synthesis to reach the designated population (e.g. young women of color, GLBTQ youth, runaway, homeless, or street youth).

Category III—Migrant Workers

That recipients, under the leadership activity, address a variety of strategies and/or programs to raise awareness and stimulate HIV prevention intervention development in migrant worker-serving organizations, and that recipients under the technical assistance activity use a variety of intervention types (e.g. small group interventions, counseling and testing, prevention case management); and/or other strategies and interventions that are proven to be effective in providing services to the designated community.

Program Requirements

Recipients in all categories must conduct the following activities:

a. Incorporate cultural competency and linguistic appropriateness into all technical assistance and skills building efforts, including those involving the development, production, dissemination, and marketing of health communication or prevention messages;

b. Use epidemiologic data, behavioral research, and program evaluation, to inform technical assistance and intervention development which meet the needs of the designated populations;

c. Coordinate program activities with relevant public sector partners, including national, regional, State, and local HIV prevention programs to prevent duplication of efforts;

d. Review and ensure consistency with applicable State and local comprehensive HIV prevention community plans when conducting program activities at the State and local levels;

e. Facilitate the dissemination of successful prevention interventions and program models through meetings, workshops, conferences, and communications with project officers;

f. Compile “lessons learned” from the project and share these with the CDC;

g. Monitor and conduct process evaluation of all major program activities and services supported with CDC HIV prevention funds under this cooperative agreement; and

h. Submit CDC forms for initiating and completing technical assistance services. Forms will be provided by CDC.

Category I—Business- or Labor-Related Organization Programs—Recipient Activities

Activity A—Leadership Activities

1. Develop and promote, at the national, State, and local levels and, when appropriate, at the international level, leadership in and support for HIV prevention policies and strategies, that promote private-public partnerships to enhance HIV/AIDS awareness and prevention;

2. Influence and strengthen, at the national, State, and local levels and, when appropriate, at the international level, private sector engagement in shaping societal and community norms that dispel HIV/AIDS stigma, reduce discrimination against persons with HIV/AIDS, and facilitate HIV prevention by encouraging the adoption and maintenance of safer behaviors;

3. Support the private sector development of policies and programs addressing HIV/AIDS and HIV prevention education in the workplace at the national, State, regional, local and, when appropriate, international levels.

Activity B—Technical Assistance Activities

1. Provide businesses and business- and labor-related organizations with technical assistance related to:

• Adopting and implementing appropriate CDC-recommended policies on HIV/AIDS in the workplace

• Educating managers and labor leaders about these policies

• Educating workers about HIV/AIDS in the workplace

• Educating workers and their families about HIV prevention, and

• Contributing to community efforts to control HIV transmission;

2. Facilitate State and local HIV prevention community planning groups, health departments, CBOs, and other HIV prevention providers in working with business, labor, and business- and labor-related organizations to strengthen and promote HIV prevention efforts in the community;

3. Facilitate business, labor and business- and labor-related organizations in working with State and local HIV prevention community planning groups, health departments, CBOs, and other HIV prevention providers to strengthen and promote HIV prevention efforts in the community.

Category II—Youth-Related Organization Programs—Recipient Activities

Activity A—Leadership

1. Develop and promote, at the national, State, and local levels and, when appropriate, at the international level, leadership support for HIV prevention policies, programs and services for HIV prevention for young women of color, homeless, run-away and street youth, and/or GLBTQ youth;

2. Influence and strengthen, at the national, State, and local levels and, when appropriate, at the international level, societal and community norms that dispel HIV/AIDS stigma, reduce discrimination against persons with HIV/AIDS, and facilitate HIV prevention by supporting the adoption and maintenance of safer behaviors in youth.

Activity B—Technical Assistance

1. Include CDC-funded CBOs, other CBOs, Health Department staff, State Education agencies, and other potential consumers of the proposed services in planning and evaluating the proposed technical assistance and service delivery program.

2. Ensure the effective and efficient provision of technical assistance and/or delivery of effective services to address HIV prevention for the designated youth populations. (Examples include, but are not limited to, intervention replication or adaptation, use of behavioral and social sciences to increase intervention effectiveness, increasing the cultural competence and linguistic appropriateness of interventions, service integration, developing effective health communications messages, conducting population-based needs assessments, and evaluation planning and implementation.) Recipients should work closely with CDC to identify interventions for the designated youth populations that have a sound basis in science or proven program experience and are suitable for dissemination.

These services are to be provided through the use of information transfer, skills building, technical consultation, technical services, and technology transfer. These services should be culturally appropriate and based in science.

3. Implement a plan for developing and maintaining ongoing technical assistance and service delivery collaboration with CDC-funded CBOs, capacity-building assistance providers, other CBOs, and State and local Health Departments.

4. Implement a system that responds to technical assistance and service delivery requests. The system must include mechanisms for assessing and prioritizing requests; linking requests to other technical assistance and service resources and to services provided by other Technical Assistance providers.

5. Identify and complement the technical assistance and service delivery efforts for the target population available locally. Cooperate with other national, regional, State, and local technical assistance and service providers to (a) avoid duplication of effort and (b) ensure that capacity-building assistance is allocated according to gaps in available services and the needs of organizations serving youth at high risk for acquiring and transmitting HIV and other STDs.

6. Coordinate program activities with appropriate national, regional, State, and local governmental and non-governmental HIV prevention partners (e.g., health departments, CBOs) and CPGs. (Note: For this announcement, the term “coordinate” means exchanging information and altering activities for mutual benefit.)

7. Incorporate cultural competency, age, and linguistic and educational appropriateness into all capacity-building activities;

8. Assist State and local HIV prevention community planning groups, health departments, CBOs, and other HIV prevention providers in working with youth and youth serving organizations to strengthen and promote HIV prevention among youth in the community.

9. Assist youth serving organizations in working with State and local HIV prevention community planning groups, health departments, CBOs, and other HIV prevention providers to strengthen and promote HIV prevention among youth in the community.

10. Participate in the CDC-coordinated Capacity-Building Assistance Network to enhance communication, coordination, and training.

Category III—Migrant Worker-Related Programs—Recipient Activities

Activity A—Leadership

1. Develop and promote, at the national, State, and local levels and, when appropriate, at the international level, leadership support for HIV prevention policies, programs and services for HIV prevention for migrant workers.

2. Influence and strengthen, at the national, State, and local levels and, when appropriate, at the international level, societal and community norms that dispel HIV/AIDS stigma, reduce discrimination against migrant workers with HIV/AIDS, and facilitate HIV prevention by supporting the adoption and maintenance of safer behaviors in migrant workers.

Activity B—Technical Assistance

1. Include CDC-funded CBOs, other CBOs, Health Department staff, State Education agencies, and other potential consumers of the proposed services in planning and evaluating the proposed technical assistance and service delivery program.

2. Ensure the effective and efficient provision of technical assistance and/or delivery of effective services to address HIV prevention for migrant workers. (Examples include, but are not limited to, intervention replication or adaptation, use of behavioral and social sciences to increase intervention effectiveness, increasing the cultural competence and linguistic appropriateness of interventions, service integration, developing effective health communications messages, conducting population-based needs assessments, and evaluation planning and implementation.) Recipients should work closely with CDC to identify interventions for the migrant worker population that have a sound basis in science or proven program experience and are suitable for dissemination.

These services are to be provided through the use of information transfer, skills building, technical consultation, technical services, and technology transfer. These services should be culturally and linguistically appropriate and based in science.

3. Implement a plan for developing and maintaining ongoing technical assistance and service delivery collaboration with CDC-funded CBOs, other CBOs, and State and local Health Departments.

4. Implement a system that responds to technical assistance and service delivery requests. The system must include mechanisms for assessing and prioritizing requests; linking requests to other technical assistance and service resources and to services provided by other Technical Assistance providers.

5. Identify and complement the technical assistance and service delivery efforts for the target population available locally. Cooperate with other national, regional, State, and local technical assistance and service providers to (a) avoid duplication of effort and (b) ensure that technical assistance is allocated according to gaps in available services and the needs of organizations serving migrant workers at risk for acquiring and transmitting HIV and other STDs.

6. Coordinate program activities with appropriate national, regional, State, and local governmental and non-governmental HIV prevention partners (e.g., health departments, capacity-building assistance providers, CBOs) and CPGs. (Note: For this announcement, the term “coordinate” means exchanging information and altering activities for mutual benefit.)

7. Incorporate cultural and linguistic competency, and educational appropriateness into all technical assistance and prevention activities;

8. Assist State and local HIV prevention community planning groups, health departments, CBOs, and other HIV prevention providers in working with migrant workers and/or organizations serving migrant workers to strengthen and promote HIV prevention among this community.

9. Assist migrant serving organizations in working with State and local HIV prevention community planning groups, health departments, CBOs, and other HIV prevention providers to strengthen and promote HIV prevention among youth in the community.

Evaluation Criteria

1. Organizational History and Capacity: (15 Total Points).

2. Assessment of Need: (10 Total Points).

3. Long-term Goals: (15 Total Points).

4. Program Proposal: (20 Total Points).

5. Scientific, Theoretical, or Conceptual Foundation for Proposed Activities: (15 Total Points).

6. Plan of Evaluation: (10 Total Points).

7. Project Management and Staffing: (15 Total Points).

8. Budget Breakdown and Justification: (Not Scored).

9. Past Performance history with CDC: (Not Scored).

Dated: November 20, 2000.
Joseph R. Carter,
Associate Director for Management and Operations, Centers for Disease Control and Prevention (CDC).

[FR Doc. 00-30078 Filed 11-24-00; 8:45 am]

BILLING CODE 4163-18-P